MILLENNIUM CHALLENGE CORPORATION

[MCC FR 24-10]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was most recently renewed for a fifth term on July 5, 2024. The MCC Advisory Council serves MCC solely in an advisory capacity and provides insight regarding innovations in infrastructure, technology, and sustainability; perceived risks and opportunities in MCC partner countries; new financing mechanisms for developing country contexts; and shared value approaches. The MCC Advisory Council provides a platform for systematic engagement with the private sector and other external stakeholders and contributes to MCC's mission to reduce poverty through sustainable economic growth.

DATES: Thursday, October 31, 2024, from 8:30 a.m.-12 p.m. EDT.

ADDRESSES: The meeting will be held in a hybrid format, both in-person at 1099 14th Street NW, Suite 700, Washington, DC 20005 and via conference call.

FOR FURTHER INFORMATION CONTACT: Email MCCAdvisoryCouncil@mcc.gov, contact Sheena Cooper at (202) 733-7148, or visit https://www.mcc.gov/about/org-unit/advisory-council for more information.

SUPPLEMENTARY INFORMATION:

Agenda. The Fall 2024 meeting of the MCC Advisory Council will have multiple new members joining. The meeting will focus on onboarding new members to the rules, bylaws, and expectations of the council and what to expect over the course of their term. Additionally, members will get an overview of MCC and the current portfolio of projects.

Public Participation. The meeting will be open to the public. Members of the public may file written statement(s) before or after the meeting. If you plan to attend, please submit your name and affiliation no later than Friday, October 25, 2024, to MCCAdvisoryCouncil@mcc.gov to receive instructions on how to attend.

(Authority: Federal Advisory Committee Act, 5 U.S.C. app.)

Dated: October 10, 2024.
Peter E. Jaffe,
Vice President, General Counsel, and Corporate Secretary.

[FR Doc. 2024-23889 Filed 10-16-24; 8:45 am]

BILLING CODE 9211-03-P